ELECTION ASSISTANCE COMMISSION

Sunshine Act Meetings

AGENCY: U.S. Election Assistance Commission.

ACTION: Sunshine Act Notice; Notice of Public Hearing Agenda.

SUMMARY: Public Hearing: U.S. Election Assistance Commission Standards Board Annual Meeting.

DATES: Friday, July 24, 2020 1:30 p.m.-3:30p.m. Eastern.

ADDRESSES:

Virtual via Zoom.

The hearing is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION: Purpose: In accordance with the Government in the Sunshine Act (Sunshine Act), Public Law 94-409, as amended (5 U.S.C. 552b), the U.S. Election Assistance Commission (EAC) will conduct a virtual annual meeting of the EAC Standards Board to discuss the proposed Voluntary Voting System Guidelines (VVSG) 2.0 Requirements as submitted by the Technical Guidelines Development Committee (TGDC).

Agenda: The U.S. Election Assistance Commission (EAC) Standards Board will hold their 2020 Annual Meeting primarily to discuss the proposed VVSG 2.0 Requirements. This meeting will include a question and answer discussion between board members. Staff from NIST and the EAC will be available to answer questions, and provide information on the VVSG process and the proposed VVSG 2.0 Requirements.

Board members will also review FACA Board membership guidelines and policies with EAC Associate Counsel and receive a general update about the EAC from the Executive Director. The Board will also elect a new member to the Executive Board Committee and consider amendments to the Bylaws.

Background: The VVSG 2.0 Requirements were published for a 90-day public comment period that concluded on June 22, 2020. The first VVSG public hearing on March 27, 2020 covered an introduction to the VVSG process as well a high-level overview of the proposed VVSG 2.0 requirements. A recording of the hearing is available on the EAC's website. The second public hearing on May 6, 2020 addressed the importance of VVSG 2.0 at the state and local level, and the consideration of accessibility and security in VVSG 2.0. A recording of the second hearing is available on the EAC's website. The third public hearing on May 20, 2020 included discussions with voting system manufacturers and voting system testing labs. A recording of the third hearing is available on the EAC's website. The EAC Board of Advisors held their annual meeting to discuss the VVSG 2.0 on June 16, 2020. A recording of the hearing is available on the EAC's website.

The TGDC unanimously approved to recommend VVSG 2.0 Requirements on February 7, 2020, and sent the Requirements to the then EAC Acting Executive Director via the Director of the National Institute of Standards and Technology (NIST), in the capacity of the Chair of the TGDC on March 9, 2020. Upon adoption, the VVSG 2.0 would become the fifth iteration of national level voting system standards. The Federal Election Commission published the first two sets of federal standards in 1990 and 2002. The EAC then adopted Version 1.0 of the VVSG on December 13, 2005. In an effort to update and improve version 1.0 of the VVSG, on March 31, 2015, the EAC commissioners unanimously approved VVSG 1.1.

The full agenda will be posted in advance on the EAC website: https://www.eac.gov.

Status: This hearing will be open to the public.

Amanda Joiner,
Associate Counsel, U.S. Election Assistance Commission.

[FR Doc. 2020-14428 Filed 6-30-20; 4:15 pm]

BILLING CODE 6820-KF-P